DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Survey of State Underage Drinking Prevention Policies and Practices (OMB No. 0930-0316)— Revision

The Sober Truth on Preventing Underage Drinking Act (the “STOP Act”) ¹ states that the “Secretary [of Health and Human Services] shall * * * annually issue a report on each State's performance in enacting, enforcing, and creating laws, regulations, and programs to prevent or reduce underage drinking.” The Secretary has delegated responsibility for this report to SAMHSA. Therefore, SAMHSA has developed a Survey of State Underage Drinking Prevention Policies and Practices (the “State Survey”) to provide input for an Annual Report on State Underage Drinking Prevention and Enforcement Activities (the “State Report”). The STOP Act also requires the Secretary to develop “a set of measures to be used in preparing the report on best practices” and to consider categories including but not limited to the following:

¹ Public Law 109-422. It is assumed Congress intended to include the District of Columbia as part of the State Report.

Category #1: Sixteen specific underage drinking laws/regulations enacted at the State level (e.g., laws prohibiting sales to minors; laws related to minors in possession of alcohol);

Category #2: Enforcement and educational programs to promote compliance with these laws/regulations;

Category #3: Programs targeted to youths, parents, and caregivers to deter underage drinking and the number of individuals served by these programs;

Category #4: The amount that each State invests, per youth capita, on the prevention of underage drinking broken into five categories: (a) Compliance check programs in retail outlets; (b) Checkpoints and saturation patrols that include the goal of reducing and deterring underage drinking; (c) Community-based, school-based, and higher-education-based programs to prevent underage drinking; (d) Underage drinking prevention programs that target youth within the juvenile justice and child welfare systems; and (e) Any other State efforts or programs that target underage drinking.

Congress' purpose in mandating the collection of data on State policies and programs through the State Survey is to provide policymakers and the public with currently unavailable but much needed information regarding State underage drinking prevention policies and programs. SAMHSA and other Federal agencies that have underage drinking prevention as part of their mandate will use the results of the State Survey to inform Federal programmatic priorities. The information gathered by the State Survey will also establish a resource for State agencies and the general public for assessing policies and programs in their own State and for becoming familiar with the programs, policies, and funding priorities of other States.

Because of the broad scope of data required by the STOP Act, SAMHSA relies on existing data sources where possible to minimize the survey burden on the States. SAMHSA uses data on State underage drinking policies from the National Institute of Alcohol Abuse and Alcoholism's Alcohol Policy Information System (APIS), an authoritative compendium of State alcohol-related laws. The APIS data is augmented by SAMHSA with original legal research on State laws and policies addressing underage drinking to include all of the STOP Act's requested laws and regulations (Category #1 of the four categories included in the STOP Act, as described above, page 2).

The STOP Act mandates that the State Survey assess “best practices” and emphasize the importance of building collaborations with Federally Recognized Tribal Governments (“Tribal Governments”). It also emphasizes the importance at the Federal level of promoting interagency collaboration and to that end established the Interagency Coordinating Committee on the Prevention of Underage Drinking (ICCPUD). SAMHSA has determined that to fulfill the Congressional intent, it is critical that the State Survey gather information from the States regarding the best practices standards that they apply to their underage drinking programs, collaborations between States and Tribal Governments, and the development of State-level interagency collaborations similar to ICCPUD.

SAMHSA has determined that data on Categories #2, #3, and #4 mandated in the STOP Act (as listed on page 2) (enforcement and educational programs; programs targeting youth, parents, and caregivers; and State expenditures) as well as States' best practices standards, collaborations with Tribal Governments, and State-level interagency collaborations are not available from secondary sources and therefore must be collected from the States themselves. The State Survey is therefore necessary to fulfill the Congressional mandate found in the STOP Act.

The State Survey is a single document that is divided into four sections, as follows:

(1) Enforcement of underage drinking prevention laws;

(2) Underage drinking prevention programs, including data on State best practices standards and collaborations with Tribal Governments;

(3) State interagency collaborations used to implement the above programs; and

(4) Estimates of the State funds invested in the categories specified in the STOP Act (see description of Category #4, above, page 2) and descriptions of any dedicated fees, taxes or fines used to raise these funds.

The number of questions in each Section is as follows:

Section 1: 31 questions

Section 2A: 18 questions ²

² Note that the number of questions in Sections 2A is an estimate. This Section asks States to identify their programs that are specific to underage drinking prevention. For each program identified there are six follow-up questions. Based on feedback from stakeholders and pilot testers, it is anticipated that States will report an average of three programs for a total of 18 questions.

Section 2B: 7 questions

Section 2C: 6 questions

Section 3: 12 questions

Section 4: 17 questions

TOTAL: 91 questions

It is anticipated that respondents will actually respond to only a subset of this total. This is because the survey is designed with “skip logic,” which means that many questions will only be directed to a subset of respondents who report the existence of particular programs or activities.

This latest version of the survey has been revised slightly. While a few additional questions were added, a similar number of questions were deleted, so that the revised survey does not place any additional burden on States. All questions continue to ask only for readily available data.

The changes can be summarized as follows:

Part I

The revised version of the survey adds five sub-questions to Part I, which deals with enforcement. The sub-questions seek additional details about the information sought in the original questions. The data sought in the sub-questions are very similar to the data sought in the original questions and will likely be kept or stored in the same location by the same personnel., according to our interviews with respondents. Accordingly, answering these new sub-questions should require very little if any work on the part of respondents.

The question asking how local and State enforcement agencies coordinate their efforts to enforce underage drinking laws has been dropped.

A question has been added seeking an estimate of the number of retail licensees in the State, if readily available. This question was not asked in the previous version of the Survey, but it was determined that reliable data on the number of retail licensees is not available from another source.

Under the existing question regarding number of compliance checks/decoy operations conducted by the State alcohol law enforcement agency, two sub-questions have been added. One sub-question asks whether these compliance check/decoy operations are conducted at both on-sale and off-sale establishments, and the second sub-question asks whether the agency conducts random compliance check/decoy operation. If the answer is yes, the question asks for the number of licensees subject to random checks, and the number who failed.

Under the existing question asking for the total amount of fines imposed on retail establishments for furnishing alcohol to minors, a sub-question has been added requesting the dollar amounts of the smallest fine imposed and the largest fine imposed. Similarly, under the existing question asking for the total number of suspensions imposed on retail establishments for furnishing violations, a sub-question has been added asking the shortest and longest period of suspension, in days. These questions will help to establish the median for fines and days of suspension so as to provide a more accurate picture of enforcement efforts in the States.

Part II

In Part II, the question regarding “specific” underage drinking prevention programs and the question regarding “related” underage drinking prevention programs have been combined, and the references to “specific” and “related” have been eliminated. States no longer need to categorize their programs as one or the other and need only list their programs.

In the section asking for a description of each program, the existing survey asked for an estimate of how many youth, parents, and/or caregivers were served by the program. This section has been revised to ask whether the program is aimed at a specific, countable population, or the general population. For programs that are aimed at the general population, the question of how many youth, parents, and/or caregivers were served has been eliminated.

Also in the section asking for a description of each program, the existing survey asked for the time period for each program. This question has been eliminated.

The question on best practices has been clarified. A multiple choice answer has been added that asks for the source of the State's best practices standards: Federal agency(ies); State agency(ies); Non-governmental agency(ies), or Other [please describe].

To ensure that the State Survey obtains the necessary data while minimizing the burden on the States, SAMHSA has conducted a lengthy and comprehensive planning process. It has sought advice from key stakeholders (as mandated by the STOP Act) including hosting an all-day stakeholders meeting, conducting two field tests with State officials likely to be responsible for completing the State Survey, and investigating and testing various State Survey formats, online delivery systems, and data collection methodologies.

Based on these investigations, SAMHSA has decided to collect the required data using an electronic file distributed to States via email. The State Survey will be sent to each State Governor's office and the Office of the Mayor of the District of Columbia, for a total of 51 survey respondents. Based on the experience from the last two years of administering the State Survey, it is anticipated that the State Governors will designate staff from State agencies that have access to the requested data (typically State Alcohol Beverage Control [ABC] agencies and State Substance Abuse Program agencies). SAMHSA will provide both telephone and electronic technical support to State agency staff and will emphasize that the States are only expected to provide data that is readily available and are not required to provide data that has not already been collected. The burden estimate below takes into account these assumptions.

The estimated annual response burden to collect this information is as follows:

Instrument | Number of respondents | Responses/ respondent | Burden/ response (hours) | Annual burden (hours)
State Questionnaire | 51 | 1 | 17.7 | 902.7

Written comments and recommendations concerning the proposed information collection should be sent by September 24, 2012 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2012-20719 Filed 8-22-12; 8:45 am]

BILLING CODE 4162-20-P